INTERNATIONAL TRADE COMMISSION

[Inv. Nos. 701-TA-491-497 (Final)]

Frozen Warmwater Shrimp From China, Ecuador, India, Indonesia, Malaysia, Thailand, and Vietnam; Commission Determination To Deny a Request To Hold a Portion of a Hearing

In Camera

AGENCY: U.S. International Trade Commission.

ACTION: Notice.

SUMMARY: The Commission has determined to deny a request to conduct a portion of its hearing in the above captioned investigations scheduled for August 13, 2013 in camera. See Commission Rules 207.24(d), 201.13(m) and 201.36(b)(4) (19 CFR 207.24(d), 201.13(m) and 201.36(b)(4)).

FOR FURTHER INFORMATION CONTACT: Robin L. Turner, Office of the General Counsel, U.S. International Trade Commission, telephone 202-205-3103. Hearing-impaired individuals are advised that information on this matter may be obtained by contacting the Commission's TDD terminal on 202-205-3105.

SUPPLEMENTARY INFORMATION: The Commission believes that respondent Seafood Exporters Association of India has not justified the need for resorting to the extraordinary measure of an in camera hearing. The Commission reaffirms its belief that whenever possible its business should be conducted in public. Accordingly, the Commission has determined that the public interest would be best served by a hearing that is entirely open to the public.

Authority: This notice is provided pursuant to Commission Rule 201.35(b) (19 CFR 201.35(b)).

By order of the Commission.
Issued: August 12, 2013.
Lisa R. Barton,
Acting Secretary to the Commission.

[FR Doc. 2013-19888 Filed 8-15-13; 8:45 am]

BILLING CODE 7020-02-P